DEPARTMENT OF TRANSPORTATION

Research and Innovative Technology Administration

[Docket Number: RITA-2007-27185]

Notice of Termination for Approval To Collect Survey Data To Evaluate Close Call Reporting System for Railroad Operations

AGENCY: Volpe National Transportation Systems Center (Volpe Center), Research and Innovative Technology Administration, DOT.

ACTION: Notice.

SUMMARY: This notice announces that the Volpe Center no longer intends to request the Office of Management and Budget (OMB) to approve a data collection effort to help in the evaluation of a five-year demonstration project focused on improving rail safety by analyzing information on close calls and other unsafe occurrences in the rail industry.

FOR FURTHER INFORMATION CONTACT: Joyce Ranney, RTV-4G, Room 1-655A, Volpe Center; Kendall Square, 55 Broadway; Cambridge, MA 617-494-2095; Fax No. (617) 494-3622; e-mail: ranney@volpe.dot.gov.

SUPPLEMENTARY INFORMATION: The Volpe Center is notifying the public that it no longer intends to seek OMB approval for the information collection activity described in its February 13, 2007 Notice and Request for Comments (see 72 FR 6808). The agency did not receive any comments to its February 13, 2007 Notice. The Bureau of Transportation Statistics (BTS) will continue to collect Close Call Reporting System evaluation related survey data under OMB Number 2139-0011.

Issued in Cambridge, Massachusetts on August 7, 2007.
Nelson H. Keeler,
Director, Office of Aviation Programs.

[FR Doc. E7-18177 Filed 9-13-07; 8:45 am]

BILLING CODE 4910-HY-P